DEPARTMENT OF HOUSING AND URBAN DEVELOPMENT

[Docket No. FR-5300-N-06A]

Notice of Availability: Notice of Funding Availability (NOFA) for Fiscal Year (FY) 2009 Lead-Based Paint Hazard Control Grant Program and Lead Hazard Reduction Demonstration Grant Program; Technical Correction

AGENCY: Office of Healthy Homes and Lead Hazard Control, HUD.

ACTION: Notice of technical correction.

SUMMARY: On May 22, 2009, HUD posted on its Web site its Notice of Funding Availability (NOFA) for HUD's FY2009 Lead-Based Paint Hazard Control Grant Program and Lead Hazard Reduction Demonstration Grant Program. Today's Federal Register publication announces that HUD has posted on its Web site a revised NOFA that corrects Appendix A of the NOFA and extends the deadline for submitting waiver requests to reduce the statutory match. Specifically, HUD inadvertently omitted a number of jurisdictions that are eligible for the FY2009 Lead Hazard Reduction Demonstration Grant Program from part A of Appendix A, entitled “Cities, Towns, Counties, and States Having at Least One Place or County with 3,500 or More Occupied Rental Housing Units Built Before 1940, and Eligible States and Tribes.” The revised Appendix A is available at http://www.hud.gov/offices/lead/09NOFA/leadcombo.cfm. In addition, in order to provide equal opportunity to all eligible applicants, the deadline for submitting waiver requests to reduce the statutory match amount from 25% to 10% is being extended from June 10, 2009 to June 23, 2009. The period for HUD to review the requests is extended from June 22, 2009 to June 30, 2009. The deadline for receipt of the applications in HUD headquarters remains 5:00 PM eastern time July 20, 2009.

FOR FURTHER INFORMATION CONTACT: For information concerning the Lead-Based Paint Hazard Control Grant Program and Lead Hazard Reduction Demonstration Grant Program, contact Warren Friedman, Senior Advisor to the Director, Office of Healthy Homes and Lead Hazard Control, Department of Housing and Urban Development, 451 Seventh Street, SW., Room 8236, Washington, DC 20410-3000; telephone number 202-402-7574 (this is not a toll-free number). Persons with speech or hearing impairments may access this telephone number via TTY by calling the toll-free Federal Information Relay Service during working hours at 800- 877-8339.

Dated: June 3, 2009.
Jon L. Gant,
Director, Office of Healthy Homes and Lead Hazard Control.

[FR Doc. E9-13527 Filed 6-5-09; 11:15 am]

BILLING CODE 4210-67-P